DEPARTMENT OF STATE

[Public Notice: 9958]

Notice of Public Meeting

The Department of State will conduct an open meeting at 10:00 a.m. on Monday, April 17th, 2017, in Room 2E16-06, United States Coast Guard Headquarters, 2703 Martin Luther King, Jr. Ave. SE., Washington, DC 20593-7213. The primary purpose of the meeting is to prepare for the 104th session of the International Maritime Organization's (IMO) Legal Committee to be held at the IMO Headquarters, United Kingdom, April 26-28, 2017.

The agenda items to be considered include:

—Facilitation of the entry into force and harmonized interpretation of the 2010 HNS Protocol

—Fair treatment of seafarers in the event of a maritime accident

—Advice and guidance in connection with the implementation of IMO instruments

—Piracy

—Any other business

Members of the public may attend this meeting up to the seating capacity of the room. Upon request to the meeting coordinator, members of the public may also participate via teleconference, up to the capacity of the teleconference phone line. To access the teleconference line, participants should call (202) 475-4000 and use Participant Code: 887 809 72. To facilitate the building security process, and to request reasonable accommodation, those who plan to attend should contact the meeting coordinator, Ms. Bronwyn Douglass, by email at Bronwyn.douglass@uscg.mil, by phone at (202) 372-3793, or in writing at 2703 Martin Luther King Jr. Ave. SE., Stop 7509, Washington, DC 20593-7509 not later than April 14, 2017. Requests made after April 14, 2017 might not be able to be accommodated, and same day requests will not be accommodated due to the building's security process.

Please note that due to security considerations, two valid, government issued photo identifications must be presented to gain entrance to Coast Guard Headquarters. Coast Guard Headquarters is accessible by taxi, public transportation, and privately owned conveyance (upon request). Additional information regarding this and other IMO public meetings may be found at: www.uscg.mil/imo.

Jonathan W. Burby,
Coast Guard Liaison Officer, Office of Ocean and Polar Affairs, Department of State.

[FR Doc. 2017-07340 Filed 4-11-17; 8:45 am]

BILLING CODE 4710-09-P